DEPARTMENT OF ENERGY

Federal Energy Regulatory Commission

[Docket No. RP96-383-033]

Dominion Transmission, Inc.; Notice of Negotiated Rate

September 5, 2001.

Take notice that on August 29, 2001, Dominion Transmission, Inc. (DTI) tendered for filing as part of its FERC Gas Tariff, Third Revised Volume No. 1, Substitute Third Revised Sheet No. 1404 and Fifth Revised Sheet No. 1300, to comply with the Commission's Letter Order issued on August 21, 2001, in Docket No. RP96-383-031.

DTI states that the Letter Order accepted for filing the tariff sheets describing DTI's negotiated rate transaction with Allegheny Energy Unit 1 and 2, LLC, subject to condition, and that its filing would comply with the conditions that the Commission placed on the acceptance of the filing. DTI also notes that the underlying service agreement has been permanently assigned to an affiliate of the original shipper and the revised tariff sheets reflect the change in shipper.

DTI states that copies of its letter of transmittal and enclosures have been served upon DTI's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22722 Filed 9-10-01; 8:45 am]

BILLING CODE 6717-01-P